FEDERAL COMMUNICATIONS COMMISSION

47 CFR Part 51

[CC Docket No. 01-321; FCC 01-339]

Performance Measurements and Standards for Interstate Special Access Services

AGENCY: Federal Communications Commission.

ACTION: Proposed rule.

SUMMARY: This document seeks comment on whether the Commission should adopt a select group of performance measurements and standards for evaluating incumbent local exchange carrier (incumbent LEC) performance in the provisioning of special access services. These comments will assist the Commission in ensuring that these services are provisioned in a just, reasonable, and nondiscriminatory manner.

DATES: Comments are due January 9, 2002, and Reply Comments are due January 30, 2002.

FOR FURTHER INFORMATION CONTACT: Jon Reel, Attorney Advisor, Policy and Program Planning Division, Common Carrier Bureau, (202) 418-1580.

SUPPLEMENTARY INFORMATION: This is a summary of the Commission's Notice of Proposed Rulemaking (NPRM) in CC Docket No. 01-321, FCC 01-339, adopted November 16, 2001, and released November 19, 2001. The complete text of this Notice of Proposed Rulemaking is available for inspection and copying during normal business hours in the FCC Reference Information Center, Portals II, 445 12th Street, SW., Room CY-A257, Washington, DC, 20554. This document may also be purchased from the Commission's duplicating contractor, Qualex International, Portals II, 445 12th Street, SW., Room CY-B402, Washington, DC 20554, telephone 202-863-2893, facsimile 202-863-2898, or via e-mail qualexint@aol.com. It is also available on the Commission's website at http://www.fcc.gov.

Synopsis of the Notice of Proposed Rulemaking

1. Jurisdiction and Enforcement. The Commission has broad authority to establish national performance measurements and standards for special access services pursuant to sections 201, 202, and 272 of the Act. The Commission seeks comment on how, if the Commission were to adopt special access measures and standards, the state commissions might participate in enforcing these requirements. The Commission also seeks comment on whether and to what extent the Commission should exercise the fully panoply of enforcement mechanisms available to it under the Act to enforce any national measurements and standards it may adopt.

2. Performance Measures and Standards. In this NPRM, the Commission seeks comment on whether the Commission should adopt interstate special access measures and standards at this juncture. It seeks comment on whether national measurements, standards, and reporting requirements for special access provisioning should apply to all incumbent LECs, or should exclude small, rural or midsized incumbent LECs. The Commission also seeks comment on whether the proposed performance measurements and standards for unbundled network elements should apply to provisioning of both high-capacity loops and special access circuits.

3. Suggested Model Performance Measures and Standards. The NPRM calls commenters attention to measurements and standards that have been proposed by New York in Proceeding on Motion of the Commission to Review Service Quality Standards for Telephone Companies, Order Adopting Revisions to Inter-Carrier Service Quality Guidelines, Case 97-C-0139 (December 15, 2000); New York State Carrier-to-Carrier Guidelines Performance Standards and Reports, NYPSC Case 97-C-0139 (Jan. 2001), and in Texas in Texas Performance Remedy Plan and Performance Measurement, Attachment 17 to Texas 271 Agreement (Version 2.0) (Aug. 2001). To facilitate access by commenters, these documents have been filed in the docket of the instant proceeding, CC Docket No. 01-321. The NPRM also calls commenters attention to proposals by WorldCom on August 6, 2001 and by Time Warner on July 16, 2001; these documents have also been filed in the docket of the instant proceeding, CC Docket. No. 01-321. Commenters are also directed to the performance measurements and standards in the Performance Measurements and Standards for Unbundled Network Elements and Interconnection Notice, CC Docket No. 01-318, FCC No. 01-331, at Section IV.B.

4. Implementation. The Commission asks commenters to discuss the same issues that apply in the context of performance measures and standards for UNEs and interconnection, namely (1) How may we best ensure that reported data are sufficiently accurate to form the basis for an enforcement action? (2) Should penalties be imposed if data inaccuracies are detected? (3) How may the Commission ensure the valid and accurate implementation of business rules and exclusions? (4) What auditing procedures, if any, are reasonable? (5) Would industry workshops under the direction of regulators be useful, and if so, should we adopt safeguards against delay and stalemate? In addition, the Commission solicits comment on appropriate reporting procedures that may help foster competition while avoiding increases on the overall burdens imposed on incumbent LECs. The Commission also seeks comment regarding the development, implementation, and analysis of the results of statistical measures that might be applicable and appropriately used in analyzing performance data.

5. Sunset Requirements. The Commission contemplates that when the services discussed herein are provisioned in a nondiscriminatory, just and reasonable manner, the Commission will suspend any reporting requirements that have become unnecessary. Accordingly, the Commission seeks comment on whether it should establish a sunset date on which the proposed reporting requirements would cease to apply to incumbent LECs. In particular, the Commission asks parties to comment on whether the reporting requirements should sunset on a date certain, such as in two, three or four years, or whether it should establish a specific trigger event. Similarly, for BOCs, the Commission seeks comment on whether these rules should sunset on a date certain after section 271 approval. The Commission also requests comments on additional proposals parties may have on establishing a sunset date.

Initial Regulatory Flexibility Analysis

6. As required by the Regulatory Flexibility Act (RFA), as amended, the Commission has prepared this Initial Regulatory Flexibility Analysis (IRFA) of the expected economic impact on small entities by the policies and rules proposed in this NPRM. Written public comments are requested on this IRFA. Comments must be identified as responses to the IRFA and must be filed by the deadlines for comments on the NPRM. The Commission will send a copy of the NPRM, including this IRFA, to the Chief Counsel for Advocacy of the Small Business Administration. In addition, the NPRM will be published in the Federal Register.

Need for, and Objectives of, the Proposed Rules

7. In this NPRM, the Commission seeks comment on whether it should adopt a limited number of measurements and standards for evaluating incumbent local exchange carrier performance with respect to ordering, provisioning and maintaining and repairing of the facilities that are critical for competitive carriers to compete for end-user customers.

Legal Basis

8. The legal basis for any action that may be taken pursuant to the NPRM is contained in sections 1, 2, 4, 201, 202, 205, 206, 207, 209, 272, 303(r) and 503(b) of the Communications Act of 1934, as amended, 47 U.S.C. 151, 152, 154, 201, 202, 205, 206, 207, 209, 272, 303(r) and 503(b).

Description and Estimate of the Number of Small Entities to Which the Proposed Rules Will Apply

9. The RFA directs agencies to provide a description and, an estimate where feasible, of the number of small entities that will be affected by any rules. The RFA generally defines the term “small entity” as having the same meaning as the terms “small business,” “small organization,” and “small governmental jurisdiction.” For the purposes of this Order, the RFA defines a “small business” to be the same as a “small business concern” under the Small Business Act, 15 U.S.C. 632, unless the Commission has developed one or more definitions that are appropriate to its activities. Under the Small Business Act, a “small business concern” is one that: (1) Is independently owned and operated; (2) is not dominant in its field of operation; and (3) meets any additional criteria established by the Small Business Administration (SBA). Consistent with the SBA's Office of Advocacy's view, we have included small incumbent LECs in this RFA analysis. We emphasize, however, that this RFA action has no effect on the Commission's analyses and determinations in other, non-RFA contexts.

10. Local Exchange Carriers. The most reliable source of information regarding the number of LECs nationwide appears to be the data that we collect annually in connection with the Telecommunications Relay Service. According to our most recent data, there are 1,335 incumbent LECs. Although some of these carriers may not be independently owned and operated, or have more than 1,500 employees, we are unable at this time to estimate with greater precision the number of LECs that would qualify as small business concerns under the SBA's definition. Consequently, we estimate that there are less than 1,335 small entity incumbent LECs that may be affected by the proposals in the NPRM.

Description of Projected Reporting, Recordkeeping and Other Compliance Requirements

11. We expect that any proposal we may adopt pursuant this NPRM will not substantially increase existing reporting, recordkeeping or other compliance requirements. The Commission already requires the filing of service quality reports and many states require the same of incumbent LECs.

Steps Taken To Minimize Significant Economic Impact on Small Entities, and Significant Alternatives Considered

12. One objective of this proceeding is to adopt reporting requirements for UNEs that will not increase the existing regulatory burdens on small carriers.

Ordering Clauses

13. Pursuant to Sections 1, 2, 4, 201, 202, 205, 206, 207, 209, 272, 303(r) and 503(b) of the Communications Act of 1934, as amended, 47 U.S.C. 151, 152, 154, 201, 202, 205, 206, 207, 209, 272, 303(r), and 503(b) a NOTICE OF PROPOSED RULEMAKING IS ADOPTED.

14. CC Docket No. 00-51 IS HEREBY TERMINATED.

15. The Commission's Consumer Information Bureau, Reference Information Center, SHALL SEND a copy of this NPRM, including the Initial Regulatory Flexibility Analysis, to the Chief Counsel for Advocacy of the Small Business Administration.

Federal Communications Commission.
Magalie Roman Salas,
Secretary.

[FR Doc. 01-30434 Filed 12-7-01; 8:45 am]

BILLING CODE 6712-01-P